DEPARTMENT OF JUSTICE

Notice of Lodging of Consent Decree Under the Comprehensive Environmental Response, Compensation, and Liability Act and the Clean Water Act

Notice is hereby given that on February 19, 2003, a proposed Consent Decree in United States v. Certus, Inc., Civil Action No. 1:02CV00095, was lodged with the United States District Court for the Western District of Virginia.

In this action the United States sought recovery under Section 107 of the Comprehensive Environmental Response, Compensation, and Liability Act (“CERCLA”), 42 U.S.C. 9607, and Section 311(f) of the Federal Water Pollution Control Act (“Clean Water Act”), 33 U.S.C. 1321(f), of natural resource damages resulting from the release of hazardous substances from a tanker truck into the Clinch River in Tazewell County, Virginia. The Consent Decree requires Settling Defendant Certus, Inc. to pay $3,707,432.84 to the United States and the Commonwealth of Virginia, as co-Trustees for natural resources, for use in restoring the natural resources injured by the release. In addition, Certus will pay $92,567.16 to the United States in reimbursement of outstanding natural resource damages assessment costs. Certus previously reimbursed the United States $481,967.40 for additional assessment costs.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Certus, Inc., D.J. Ref. No. 90-11-2-07004.

The Consent Decree may be examined at the Office of the United States Attorney, Western District of Virginia, 105 Franklin Road, SW., Roanoke, VA 24011, and at U.S. Fish & Wildlife Service, Virginia Field Office, 6669 Short Lane, Gloucester, VA 23061. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $6.50 (25 cents per page reproduction cost) payable to the U.S. Treasury.

Robert D. Brook,
Assistant Chief, Environmental Enforcement Section, Environment and Natural Resources Division.

[FR Doc. 03-4541 Filed 2-25-03; 8:45 am]

BILLING CODE 4410-15-M